DEPARTMENT OF EDUCATION

[Docket No.: ED-2023-SCC-0055]

Agency Information Collection Activities; Submission to the Office of Management and Budget for Review and Approval; Comment Request; Higher Education Act (HEA) Title II Report Cards on State Teacher Credentialing and Preparation

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before September 11, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Freddie Cross, (202) 987-0430.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Act (HEA) Title II Report Cards on State Teacher Credentialing and Preparation.

OMB Control Number: 1840-0744.

Type of Review: Revision of a currently approved ICR.

Respondents/Affected Public: State, local, and Tribal governments; private sector.

Total Estimated Number of Annual Responses: 2,283.

Total Estimated Number of Annual Burden Hours: 185,000.

Abstract: This request is for a revision of the State Report Card and Institution and Program Report Card required by the Higher Education Act of 1965, as amended in 2008 by the Higher Education Opportunity Act (HEOA). States must report annually on criteria and assessments required for initial teacher credentials using a State Report Card (SRC), and institutions of higher education (IHEs) with teacher preparation programs (TPP), and TPPs outside of IHEs, must report on key program elements on an Institution and Program Report Card (IPRC). IHEs and TPPs outside of IHEs report annually to their states on program elements, including program numbers, type, enrollment figures, demographics, completion rates, goals and assurances to the state. States, in turn, must report on TPP elements to the Secretary of Education in addition to information on assessment pass rates, state standards, initial credential types and requirements, numbers of credentials issued, TPP classification as at-risk or low-performing. The information from states, institutions, and programs is published annually in The Secretary's Report to Congress on Teacher Quality.

The revisions to the IPRC consist of the following:

• A new sub-section about the impact of COVID-19 in Section I: Program Information. The section would have four questions in the first data collection year in which it is implemented, due to retrospective questions going back to academic year 2019-20, but only one question in subsequent data collection years.

• A new question about student completion rate in Section I: Program Information.

• Minor revisions to the gender and race/ethnicity categories in Section I: Program Information.

The revisions to the SRC consist of the following:

• Two new items showing completion rate, total and by program, pre-loaded from the IPRC for state review, in Section I: Program Information.

• Five new multiple choice questions in Section VII: Teacher Shortages and Teacher Preparation, which are replacing three open text items.

• A new “other” response option for a multiple choice item in Section IX: Improvement Efforts.

• A new multiple choice and open text item in Section IX: Improvement Efforts.

• A new section (Section X) about the impact of COVID-19. The section would have three questions in the first data collection year in which it is implemented, due to retrospective questions going back to academic year 2019-20, but only one question in subsequent data collection years.

• Minor revisions to the gender and race/ethnicity categories in Section I: Program Information.

Dated: August 8, 2023.
Kun Mullan,
PRA Coordinator, Strategic Collections and Clearance, Governance and Strategy Division, Office of Chief Data Officer, Office of Planning, Evaluation and Policy Development.

[FR Doc. 2023-17245 Filed 8-10-23; 8:45 am]

BILLING CODE 4000-01-P